DEPARTMENT OF HEALTH AND HUMAN SERVICES

Centers for Disease Control and Prevention

[30Day-22-0213]

Agency Forms Undergoing Paperwork Reduction Act Review

In accordance with the Paperwork Reduction Act of 1995, the Centers for Disease Control and Prevention (CDC) has submitted the information collection request titled “National Vital Statistics Report Form” to the Office of Management and Budget (OMB) for review and approval. CDC previously published a “Proposed Data Collection Submitted for Public Comment and Recommendations” notice on January 7, 2022 to obtain comments from the public and affected agencies. CDC did not receive any comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

National Vital Statistics Report Form (OMB Control No. 0920-0213, Exp. 10/31/2023)—Revision—National Center for Health Statistics (NCHS), Centers for Disease Control and Prevention (CDC).

Background and Brief Description

The compilation of national vital statistics dates back to the beginning of the 20th Century and has been conducted since 1960 by the Division of Vital Statistics of the National Center for Health Statistics (NCHS), CDC. The collection of this data is authorized by 42 U.S.C. 242k, and this submission requests to continue use of the Annual Vital Statistics Report Form for collection of annual marriage and divorce/annulment summary statistics for three years. Additionally, this Revision requests to discontinue the Monthly Vital Statistics Report, which is currently used to provide counts of monthly occurrences of births, deaths, and infant deaths. The collection of the provisional birth and death data is now being achieved on a more timely, ongoing basis which negates the need to continue to use the monthly form.

Continued use of the Annual Vital Statistics Report Form collects final annual counts of marriages and divorces by month for the United States and for each State. These final counts are usually available from State or county officials about eight months after the end of the data year. The data are widely used by the Department of Health and Human Services (HHS), and other government, academic, private research, and commercial organizations in tracking changes in trends of family formation and dissolution. Respondents for the Annual Vital Statistics Reports Form are registration officials in all 50 States, seven U.S. Territories, including American Samoa, Guam, Northern Mariana Islands, Puerto Rico, Virgin Islands, the District of Columbia, and New York City, as well as the 33 local (county clerk) officials in New Mexico who record marriages occurring and divorces and annulments granted in each county of New Mexico.

CDC requests OMB approval for an estimated 46 annual burden hours. There are no costs to respondents other than their time to participate.

Estimated Annualized Burden Hours
Type of respondents | Form name | Number of respondents | Number of responses per respondent | Average burden per response (in hours)
State, Territory, and New Mexico County Officials | Monthly Vital Statistics Report | 91 | 1 | 30/60

Jeffrey M. Zirger,
Lead, Information Collection Review Office, Office of Scientific Integrity, Office of Science, Centers for Disease Control and Prevention.

[FR Doc. 2022-10371 Filed 5-12-22; 8:45 am]

BILLING CODE 4163-18-P